DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPPA) of 1996, as amended. This listing contains the name of each individual losing United States citizenship (within the meaning of section 877(a) or 877A) with respect to whom the Secretary received information during the quarter ending September 30, 2021. For purposes of this listing, long-term residents, as defined in section 877(e)(2), are treated as if they were citizens of the United States who lost citizenship.

Last name | First name | Middle name/initials
ABELIN | STEFAN | M
ABELIN | YVONNE | B
ABIAD-EID | CHLOE |
ABIAD-EID | KRYSTEL |
ACKERMANN | LUKAS | S
AIDRUS | TANIA | S
AKAGI | KAI | MATTHEW
ALBRECHT | DANIEL | J
ALKON-FISHER | MARGARET | R
AL-MALAZI | MAYYASA | S
ALPERSTEIN | MELISSA | E.B.
ALTHAUS | KENNETH | S
AL-UBAID | AHMAD |
ALVETRO | JAMES |
ALWANI | GIRISH |
ANDERS | LAURA |
ANDERSON | CHARLENE |
ANDERSON | JANE | S
ANDERSON | MORRIS | A
ANDRADE | RACHEL | J
ANDREWS | JOAN | I
ANNABELL | TRACY | L
APPLEYARD | C MARK | K
ARLANT | ALESSANDRO | ALBERTO
ARMSTRONG | JANA | A
ARNOLD | ROBIN | E
ASHTON | LEIGH | M
ASJES | LUCAS | JAN
ATMA | DIANE | J
AUGER | ANTOINE |
AUSTIN | AMY |
AYLWARD | MICHAEL | P
BAIRD | CHARLES | L
BAKER | MARTIN | G
BAKER | SEAN | F
BANDITT | SUSAN | J
BANG | MI | RAN
BANK-DE ZEEUW | DINA |
BARATA | MELANIE | GOETTI DIAS
BARATOFF | CYRIL |
BARMAN | RODERICK | A
BARNES | CHRISTIAN | L
BARNETT | SUSAN | P
BARRETT | NICOLE |
BARTALENA | GUIDO |
BARTON | JOAN |
BASIC-BEGAGIC | EMINA |
BAUMAN | PAUL | D
BAUMANN | ERICH | S
BAUMANN STETTLER | STEFANIE |
BAUR | HANNA | C
BAUTOVICH | TANYA | M
BEATTIE | ANDREW | J
BEATTY | WILLIAM | F
BECKER | CAROLINA | F
BECKER | ELAINE | M
BECKER | HOLLY |
BECKLEY | TYLER | C
BEGERT | MERYL | H
BENITEZ | JOSE | F
BENNETT | HUDDIE | A
BENSON | ROBERT | A
BERGE | ANNETTE | C
BERGE | ANNETTE | C
BERGERS | WILHELMUS | F
BERLIN | RAGNA |
BERNAZANI | ODETTE |
BERRYHILL | ROBERTA | H
BERTOLINO | CARLY | M
BEVIS | COLLEEN | B
BIEG | MARTIN | T
BIKOV | MARIA | M
BINFET | MATTHEW | J
BINGHAM | ANGUS | G
BIRNIE | KATHRYN | A
BLACK | CELESTE | M
BLACKWELL | KRISTINA | J
BLANCHARD | PHILIPPE | ALEXANDRE
BLANCHET | MARIE-EVE |
BLOCH | ERIC |
BLOCH | MARION | B
BLONDHEIM | RACHEL | J
BLUMBERG | STEPHEN | LOUIS
BOEVE | ERIC |
BOGAN | ERICA | M
BOIVAN | INGRID | A
BOLLETER | ANDRES | S
BONICATTI | PATRICIA | W
BORST | NORA |
BOWER | JOHN | W
BOWER | LESLIE |
BOWERS | RYAN | G
BOYCE | THOMAS | M
BRADBURY | ALISON | P
BRADBURY | CHRISTOPHER | J
BRANCH | BARBARA |
BRANDT | WILLEM | R
BRAUER | SUSANNE | M
BREITENMOSER | DANIEL |
BREITENMOSER | MARC | L
BRENNAN | TANIA |
BRENNINKMEYER | EDWARD |
BREVIG | KAHN |
BROADWELL | MARY | P
BROOKS | JOAN | C
BROWN | REBECCA | L
BROWN | ROBERT | A
BROWNRIGG | DANAE | C
BUCKLAND | NIGEL | C
BURGERS | HENDRIKA | J
BURGIN | KARL | E
BURKHARDT | SHANE |
BURNETT | EMILY | R
BURTON-MCCARTHY | HELEN |
BUSCH-PETERSEN | MARGRETHE | B
CABRALES | JUAN |
CACCHIONE | PATRICIA |
CANALES | JUAN | M
CAPELLI | SANDRA |
CARRAHER BLANCHE MCGUIRE | MARTINE | CAROLINE
CASEY | ASHLEY | J.
CASTRACANE | LUBA |
CATHCART | DAVID |
CHAO | FALTON | T S
CHAPMAN | JESSE | C
CHAPMAN | MICHELLE | T
CHARNLEY | ANDREW | A
CHARNLEY | CHRISTOPHER | J
CHARNLEY | MICHAEL | J
CHAUMET | LUCY | A
CHEN | JENNIFER | H
CHEN | PEILAN |
CHENG | ALVIN | K
CHIASSON | NATHALIE | A
CHIKIRA | MASAKAZU |
CHIVERS | DANA |
CHIVERS | DAVID | H
CHOW | MONICA | L
CHRISTODOULOPOLOUS | ILIAS |
CHRISTOPOULOU | DINA |
CHU | ALISON |
CHU | MEGAN | CHAW WEI
CHUANG LEE | LIH YAN |
CHURCH | NANCY |
CILLONIZ REY | ANDREA |
CLARK | ELIZABETH |
CLARK | MARGARET |
CLARK | ROBERT |
CLARK | SHANNON | A
CLARKSON | HELENE | E
CLINGMAN | DAVID |
CLOUSTON | PERRY |
COCKRELL | HARRY | A
CODEVILLA | CARLO | E
COE | CORNELIA | J
COHEN | RINA | I
COLLYER | MICHAEL | GEORGE
COLUCCIO | CECILIA | A
COLVIN | SUSAN | N
COMEAU | MELANIE |
CONRADS | HANS | G
CONWAY | JOANNE | C
CONWAY | LAURA | J
COOMBS | CAROLINE | A
CORKUM | KELLY | L
CORNOFSKY | LARRY |
CORVES | CHARLOTTE | A F
COTMAN | AMANDA | S
COX | DARCY |
CREIGHTON | DAVID |
CRISTIANO | LORENZO |
CRIVELLI-AMSTUTZ | MIRIELLE | MIRA
CROCKER | PETER | J
CROSHERE | ROBERT | F
CROXFORD | ELIZABETH | J
CUDD | THOMAS | V
CUI | XIANGGEN |
CURTI | ARIANE | C
CYMLICH | INNA |
D'AILLY | BOUDEWINE | D.
DAITZ | LAURA |
DAKIN | JAMES | L
DALTON | FREDERICK | V
D'ANGELA-LALONDE | YVONNE |
DANIELI | ANNA | TERESA
DANIELI | VALENTINA | F
DANOWSKI | GUSTON | S
DARCY | FUMIKO | MITSUDA
DARLING | MADISON |
DAVISON | CHRISTOPHER |
DAWSON | CELIA | P
DE CARVALHO | ERIK |
DE LU | KATIA | G
DE MENEGHI | VICKI | L
DE MESTRAL | SOPHIE | A
DE POULPIQUET DU HALGOUET | TANGUY |
DEACON | STEPHEN | R
DEDOMING | EVA | N
DELAHAIJ | ERIC | J
DELONNOY-JUSTICE | VICKI | M
DEN DAAS | CHRISTIAN | D
DEN DAAS | JAN-WILLEM | T
DENNING | PIERS | W
DENNIS | NEIL | 0
DESBIENS | NATHALIE |
DETWILLER | DENNIS |
DETWILLER | HILARY |
DEVLIN | ALAN | J
DEWITTE | NATHALIE | K
DEXTER | DAVID | K
DICKINSON | SHELLEY | L
DICKMAN | JEROME | E
DICKMAN | SHARRON |
DIJK | HENDRIK | J
DIKKERS | DERRICK |
DING | CHUN | R.
DIPIETRO | PETER |
DOOLHOF | MANOUK | N
DOUCETTE | DESIRE | J
DRIVER | KELLY |
DROUIN | JOCELYNE |
DRUMMOND | MARY ANNE |
DUARTE | ROBERTO | D
DUNN | PATRICIA | A
DUNNE | MARCELA | O
EASDALE | REBECCA | L G
EAST | ROSEMARY | E
EDDINGTON | SCOTT | D
EDGERTON | SYLVIA | L
EDWARD | MIKUCKI | J
EDYE | ISABELLE |
EDYE | MICHAEL |
EGAN | TIFFANY | I
EGERER | CHRISIAN | P
EIDEL | OLIVER |
ELDRIDGE | SHEILA |
ELY | BRODERICK | P
EMSERMANN | ISABEL |
ENGLER | COLIN | D
EPLATTENIER | NATHALIE | L
EPSTEIN | JOHANN | G
ESLAVA | PEDRO | J
EVAMY | ANDREW | D.
EVANS | MEGAN |
EWING | MEGAN |
FANG | PAMELA | J
FARMANFARMAIAN | CHARMINE |
FAST | LORETTA | J
FAUCETT | EBONY |
FAWCUS | DEBERA | A
FAY | LEE |
FELDMAN | SAMUEL |
FELDMAYER | MATTHIAS |
FENCHEL | SULYA |
FENNEFORE | MARIE | K
FERCHER | KURT | C
FERNANDEZ TORRES | ELIA |
FERRAGAMO | VITTORIA |
FERRO | ROBERTO | G
FIBIGER | HANS | C
FISCHER | HERBERT |
FISCHER | JOHANNES | M
FISCHER | SHIRLEY | S
FISCUS | JAMES | D
FISCUS | TROY | D
FITZPATRICK | ELEANOR |
FITZPATRICK | MARK |
FIVAZ | JULIETTE |
FLEHR | JUDITH |
FLIKKEMA | HARRY | JACK
FOKKEMA | MARGARET | J
FOLLOWS | JOSEPH | F
FOLOT | FRANCOIS |
FORNER | MALIA | C
FORWOOD | SAMANTHA |
FOWLER | MICHAEL | C
FOX | FREDERIC |
FRASA-ODOK | SELMA |
FREEDMAN | AYRIE | L
FREEDMAN | LEXIE | A
FREY | NICOLE | CECILIA
FREY | PERRY |
FRICKER | JOSEPH | A
FRIESEN | DONALD | K
FULLER | MIMI | G
FUNG | WING | SEE
FURTH | DIANA | A
FUTAMI | AKIKO |
GAA | JAMES | C
GAA | MARILYN | A
GALLOWAY | DIANE |
GALZA | LOIS | C
GAMBLE | JACQUELYN | D
GAMSGAARD | JANE | E
GANS | MICHAEL | J
GARCIA-BARRERO | GUILIERMO | A
GARDNER | KENNETH | R
GARRAND | LISA | A
GAUTHIER | MARION | P
GAUTHIER | THOMAS | P
GERARD | GERARD | M
GERATH | GUY | W
GERATH | THERESA |
GERRITY | SCOTT |
GIBBONS | JOHN | CALEB
GIBSON | ANNIKA |
GIBSON | YLVA | M
GIGUERE | LOUISE |
GILGEN | THOMAS | M
GILLIAN | KATHERINE | M
GOEDEL | CLAUDINE | S
GOERGEN | STACY | K
GOETTSCH | STEFAN |
GOLDBLATT | DEBRA |
GOLDEN | BRIAN | R
GOLDMAN | MA'AYAN |
GOLDSTEIN | DANIEL |
GOLDSTEIN | JUDY |
GOLDSTEIN | RONALD |
GONZALES | GEORGE | C
GOOD | BRYAN | D
GOODE | EDWARD | R
GOOSSEN | PAMELA |
GORIS | ILSE |
GOTTLIEB | ZACHARY |
GOTTSCHALK | BRIAN GOTTSCHALK |
GOUDGE | CARLA | C
GOULD | PHILIP | H
GRAHAME | JUDITH | J
GRANHEIM | SARA | M
GRANT | MARY |
GREAVES | MATTHEW | A
GREEN | MICHAEL | C
GREENBERG | PAUL |
GREENE | MARGARETHE | L
GROSLAND | ROBERTA | JAYNE
GROSS | ALEXANDRA |
GRUZMAN | GEORGIANA |
GUINARD | CLAUDIA | IRENE ELFRIEDE
HAAC | VICTORIA | S
HACKER | JOSEPH | S
HAGEN | JAMES | W
HAKIM | RICHARD |
HALIPERIN | VEIT | N
HALL | EDWARD | R
HALL | JAMES | P
HAMAKAWA | KEIKO |
HAMMER | RICHARD | E
HAMMONS | SUSAN | E
HANSEN | DOAN | N
HANSEN | STEN | M
HARD | RONALD | THOMAS
HARMON | COLE | MICHAEL
HARRELL-BOND | DAVID |
HARRELSON | ERLENE |
HART | SARAH | L
HART NIBBRIG | MARIA | P
HARTNAGEL | TIMOTHY |
HARTSHORN | JUDITH | E
HASHIMOTO | RIKIYA |
HASSELGRAVE | AMY |
HAYMET | ANTHONY | D
HEDIGER | MARTIN | A
HEESE | MARLON | F
HEINE | OLIVIA | K
HEITMAN | MARTHA |
HELLIWELL | BENJAMIN | A
HENDERSON | KAREN | M
HENDERSON (ZELLER) | LINDA |
HERMAN | SARAH | L
HETHERINGTON | JOYCE | A
HEWSON | NATHANIAL |
HICKLI | ALISON | H
HILL | ROBERT | J
HILTI | NORMAN | A
HIPPS | RYAN | CHRISTOPHER
HOCHSTEINER | ANNETTE | B
HOERMANN | DANEILA |
HOFSTAETTER | THOMAS |
HOFSTEDE VOS | WALTER | WILLIAM ANDREW THEODORE
HOGAN | BARBARA |
HOLDEN | PERI | A
Holt | Karen | Lee
HOOKER | LISA | D
HORSTER | SOPHIA |
HOSANG | ALAIN | F
HUGHES | EMILY | G
HUGHES | MITCHELL |
HUMPHREYS | REBECCA |
HUTTON | JOANNE |
HYNDMAN | MARC | G
ILIFF | JOHN | C
ILLI | JEAN-JACQUES |
ILYN | DAVID | A
IMBACH | FRANCESCA | N
INTRATOR | ELIZABETH | R
IP | FANNY |
J | REDRO | G
JACKSON | ANNA-MARIA | M
JACQUEMIN | ALIX |
JACQUEMIN | HUQUES |
JAGER | JUDITH |
JANSE | BERNARDUS | W
JANSSON | LEIF | G
JANZEN | MICHAEL | K
JARMAN | HEATHER | N
JASPER | DALLAS | M
JASPER | LOUISE | D
JEFFS | LYNN | M
JENSEN | JOHN | T
JENSEN | MARGARET | S
JOHNSON | JAMES | A
JOHNSON | KODY |
JOHNSON | TIMOTHY |
JOHNSTON | SUSAN | L
JOLIVET | CLAIRE | A.
JOLLY | AARON | F
JONES | JENNY | V
JONES | JONATHAN | CHARLES K
JONES | MAURICE | A
KADATZ | STEVEN |
KAEGI | MANUEL |
KAEGI | RAPHAEL |
KAI | YUTA |
KAMENETZKY | DAVID | A
KAMLANG-EK | PHRA | PRAPUTT
KAMMERZELL | SUSAN | E
KANDE | BETTINA | M
KANOFF | REBECCA |
KAUENHOFEN | AYLMER |
KAZUNARI | TOKURA |
KEAST | MELANIE | M
KEAST | MIRANDA | E
KEHOE | JOHN |
KEIJER | NINA | MARCHIEN
KEIJER | THOMAS |
KELLEY | KEVIN | L
KELT | MURDO | J
KEMP-LETTKAMP | HANS | CHRISTIAN
KENNY | DEIRDRE | M
KERR | BARBARA |
KILBANE | CAROLINE |
KILBANE | MICHAEL | G
KILLEN | CATHERINE |
KILPATRICK | SONYA | F
KIM | JENNIFER | Y
KIM | SUNG UP |
KIMEL | JOSEF | GAL
KING | MICHAEL |
KISH | BRIANA |
KLEIN | KULANADDA | H
KLINE | SALLI | J
KLINEFELTER | VICTOR | A
KNUDSEN | ELLINA | MONET
KOCHENDOERFER | ANDREA | S
KOEHL | STEFAN | L
KOENIG | IRENE | URSULA
KOHNSTAMM | JUSTIN | M
KOLENDA | SARA |
KOMOROWSKI | ROMAN | J
KONST | CLARE | N
KORN-NESPOR | ANNE | R
KRAEGEL | JEFFREY | JOHN
KRAIZBERG | ORNA |
KRAPIVIN | YURY |
KRAPIVINA | VICTORIA |
KREMER | HERMAN | A
KRENGEL | SVEN |
KRONENBERG | DOMINIQUE | D.
KRONENTHAL | MELISSA |
KULKARNI | SHRUTI | N
KURKCUYAN | PETER | B
LACKNER | ANDREAS |
LADEBAT | LIONEL | J
LAEDERICH | LIOUBA |
LAEMMLI | CAROLINE | MAYA
LAKIN | ERIC | DANIEL
LAM | RICKY | KA-CHI
LAMBETH | DEAN | A
LAMONT | LINDA |
LAMOTHE | JONATHAN |
LANDON | LEAH | J
LANG | DAVID | JOHN
LANG | KEVIN | RICHARD
LANNOY | GUY | G
LAPIDUS | DIANE | C
LARSEN | TRINA | M
LASNET | CECILY |
LATRY | JEAN | P
LAUER | SONJA |
LAURIE | AVRUM |
LAVER | BRID |
LAVER | MICHAEL |
LAWSON | KATHERINE |
LAWTON | RON | D
LE GRAND DES CLOIZEAUX | FRANCOIS | MARIE
LE ROUX | SOPHIE | I
LEA | RYAN |
LEE | DAVID 2019 |
LEE | RICHARD | M
LEE | SEAN |
LEE | TIMOTHY | A
LEE | YATING |
LEFEBVRE | ALEXANDRE | F
LEGER | MELANIE | J
LELKE | BIANCA |
LENG | MARIA | C
LEPLEY-GABRIEL | KRISTINA |
LEPRIEUR | NANCY | H
LESLIE | HUGH | S.
LETTS | CAREY | E
LEUNG | REBECCA |
LEVITT | IAN | M
LEVITT | JOSEPH | F
LEWIS | JEREMY | B
LEWIS | MARY JANE | J
LIANG | YVONNE | Q
LIBFELD | RACHEL |
LIBFELD | STEVEN |
LIGHTBURN | PATRICIA |
LIGTHART | INGRID | G
LIN | JERRY |
LIN | TA-CHUN |
LINK | KARL | R
LOCKHART | MARC |
LOO | JON | P
LOVETT | SHARON |
LOWRY | CHRISTINA | D
lu | angel |
LUBBOCK | JULIUS | A
LUDER | PANSCAL | MATTHIAS
LUDER | PHILLIPP | R
LUX | ANDREW | C
LVOVSKY | ALEXANDER | I
LYALL | ANTHONY |
LYONS | HELEN |
MACAULAY | FANE | E
MACCARTHAIGH | HELENA | A
MACDERMOTT | KAREN | L
MACDONALD | COLIN |
MACDONALD | PATRICIA | LUCILE
MACDONALD | TODD |
MACEDO | GABRIELA | ALVES
MACFARLAND | HAROLD | C
MACGREGOR | KATHERINE |
MACISAAC | ANTHONY | MARSHALL
MACKAY-SMITH | ALEXANDER |
MAGGISANO | MELINDA |
MAGLIANA | INGEBORG |
MAGNAN | ANTOINE |
MAHAN | MARILYN |
MAHAN | THOMAS | F
MAKIN | CAMERON |
MANDELSON | SARAH |
MANKTELOW | LUCY | E
MARCEAU | JONI |
MARGARIA | ROBERTO | A
MARIAN | MICHAEL | W
MARINELLO | GIUSEPPINA |
MARKS DE CHABRIS | LIONEL |
MAROLF | CHRIS |
MARSICO | JOSEPH | F
MARTEL | PAOLO | ROBERTO M
MARTIN | KARIN |
MARTIN | MARIE-JOSEE |
MATTHEW | NICK |
MATTHEWS | ROBERT | B
MATTIE | JOHANNE |
MATTSON | DAVID | L
MATTSON | VIRGINIA | C
MAXRATH | LARS |
MCCARTHY | SIMONE | C
MCCARTHY | SIMONE | C
MCCARTHY | STEPHEN | E
MCDONALD | WENDY | C
MCEVILLY | SEAN |
MCKENNA | JOSEPH | T
MCKOY | MADISON | J
MCLAREN | WHITNEY | H
MEIER | NATHANAEL | E
MELLER | EMILY |
MELO | RAFAEL |
MELVIN | REINE | MARIE
MERCER | MARC | ARTHUR
MERCHEL | EWA | A
MERCURY | NANCY | P.
MERKERT | MONA | KRISTINA
MERRY | DOUGLAS | J
METAXES | VICTORIA | E
METELIK | IRENE | A
METHERELL | DONALD | S
MEYER | FELIX |
MEYER | ILLANA | S
MEYER | SEAN | Z
MEYERSEN | ANNETTE |
MEYN | THORE |
MICHAUD | MONIQUE | M
MILLAR | CHRISTOPHER | PATRICK
MILLER | JANET |
MILNE | EDWARD | L
MILNER | DAPHNE |
MINTO | RACHAEL | M
MIRANI | RAHUL | C
MIRO | ADRIAN |
MISLIN | JONAS | R
MITCHELL | LISA |
MOATE | PETER | J
MOATE | THERESA | M
MOERITZ | FREDERICK |
MOHLER | STEVEN | M
MOLLER | SHAULA |
MOLTZ | KAREN |
MONEY | JOHN | STEPHEN
MOORE | DAVID |
MOORMAN | ROBIN | T
MORAWITZ | DELEAH |
MORENCY | MARY | E
MOREY | KEVIN | C.
MORIKAWA | EIZI |
MORLEY | SIMON | A
MORRIS | JASON | T
MORRISON | KATHRYN | C
MORSE | BRADFORD | W
MOSELEY | ANDREW |
MOSELEY | CHERYL | J
MOSHER | PAULINE | B
MOSKO | CHEYENNE | S
MOSS | MIRIAM |
MULVENNA | CHARLES |
MUNCH-HANSEN | KATRINE |
MUNN | FRANCES |
MUNRO | JAMES | L
NAKAYAMA | KAZUNORI |
NALLAMILLI | PPASANTI |
NANDIGAM | RAMAKRISHNA | M
NASH | JUSTIN | J
NASH | MARY | T
NASH | JANINE | DEPPER
NASSOS | ANNELISE | K
NEAVE | EDWIN | H.
NEDROW CARPENTER | MARCY | A
NEIDERBERGER | ANDREAS | P
NEIDHART | LUKAS | E
NEJATIAN | KASRA |
NEUBRAND | SALLIE | R
NEUMANN-SEILER | HERTA | MARIA
NEUMAYR | EMILY | J
NEWBATT | FRANCIS | P
NEWHOUSE | NANCY |
NGUYEN | TAN | N
NGUYEN-PHUONG | DIEU-ANH |
NGUYEN-PHUONG | LAM |
NICHOLAICHUK | IRIS |
NIEDERBURGER | MOLLY | A. ALLEN-
NIEDERMEYER | SUSANNE MARIA | FICKL
NIELSON | DAVID | J
NIEUWKERK | JAN | A.
NOCHIMSON | ROBERT | M
NOLAN | JESSICA | A. C.
NOMURA | YASUYO |
NORRIS | GRAHAM | C
OBERG | JEFFREY | E
OBYRNE | SHARON |
ODENTHAL | KARIN |
O'DONNELL | JACQUELINE |
OH | LYNETTE |
OJEISEKHOBA | MOSES | I
OLANDER | SUSANNE |
ONG | FREDERICK | E
ONO WIER | KATSUYO |
ORR | SIMON | KUEN FUNG
OSKARSDOTTIR | GUDRUN |
OTSUKA | SHINICHI |
Otten | Roderik | Paul
OYAMA | TOSHIHISA |
palazzo | albert | p
PALMER | JAMES | H
PARE | PATRICE |
PARRY | BRADLEY | K
PARSA | FARIDEH |
PARVATHAM | VIJAYASAI |
PASCALE | FRANCIS | M
PASSINGHAM | JOHN | G.R.
PATEL | AKASH | M
PATEL | PRAVINBHAI |
PATTERSON | NIGEL | S
PAUL | JOSEPH | A
PEACE | BIANCA | JADE
PEACOCKE | CHRISTOPHER | JON
PENFORD | LYNNE | E
PEREZ-ROJAS | NATHALIA |
PERL | MICHEL | R
PETCH | CHRISTOPHER | J
PETCH | WILLIAM | M
PETER | DEANNE | RUTH
PETITCLERC | JOSEE |
PETITCLERC | NANCY |
PFEIFER | ISRAEL |
PHILLIPS | MARCIA | B
PIASECKI | WOJCIECH |
PICARD | LAUREEN |
PIECZONKA | ROSALIND |
PIERA | LEWIS | B
PIERRE | BORIS | J
PIMBLOTT | KERRY | L
PIROTTA | DANIE |
PITTS | MARY | LOUISA
PLANT | JANET | L
PLANTINGA | MARGARET |
POLLACK | SHOSHANA |
POLLEMAN | SARAH | E
POPESCU | DIANA | MIHAELA
POPOVIC | MATEJA |
PORTER | LISA | Y
POULSEN-JUDGE | CONILYN |
POWELL | LILLY |
PRITCHARD | CATHERINE |
PRZEDBORSKI | SERGE |
PU | JIMMY |
PURCELL | MYRLIA | NORA
RADEMACHER | DANIELA | SUZANNE
RAE | ANDREW |
RAFFEL | IAN |
RAINER | RICHARD |
RAO | SANJAY | C
RAPP | DONNA | E
RATHBONE | ERIN | NICOLE
REGAN | THOMAS | D
REGUEIRO | ALEXANDER |
REITZNER | SIBYLLA | G
RENZI | RENALDO | CIRO
RENZI | ROBERTO | SERAFINO
REUTHER | ANDREAS | FLORIAN
REYES | DANIELE | ROBERT
RIBBING | KRISTINA | I
RICHENS | SIMON | P
RICKER | JOHN | M
RINGWALD | BIANCA |
RITONJA | LURA | M
RIVIERE-BARBIER | ANAELLE | APRIL
ROBINSON | ALIDA |
ROBINSON | SIMONE |
ROBINSON | JANE | HIPPISLEY
ROBLES | IVAN | R
ROBLES | MICHELLE | A
ROEDER | SVEN | HANS
ROLLER | KRISTA | D
ROMASCHIN | VERONICA |
ROSE | WILLIAM | D
ROSENBERG | HEIDI |
Rosenberg | Michael | Geoffrey
ROSS | LOUIS | A
ROUX | JEAN-DENIS |
ROWLAND | URSULA |
ROWLANDS | AARON | J
ROWLANDS | AARON | J
ROY | ANNE | M
ROY | JEREMY |
ROY | ROBERT | G
RUSSELL | TANIA | R
RUTGERS | AMANDA |
RUTGERS | TANNER |
RUTLAND | GRACE | CHARLOTTE
RYAN | PHOEBE | H
SAADIEH | OSKAR | WALID
SAADIEH | VIKTOR | WALID
SABEAN | SHELLY | R
SADEGHI | HASSAN | R
SADEGHI | CHRISTINE | DIANE LEA
SAKAKIBARA | MASARU |
SAKAKIBARA | SACHIKO |
SALETU | ALEXANDER | B
SALETU | MICHAEL | T
SALL | CONNIE |
SAMPAIO | JULIANA | SECCHIM
SANG | ROSE | H. FREY
SASAKI | YUJI |
SASANUMA | TOICHI |
SASSE | ROLF | P
SASSOON | VICTOR |
SBROCCHI | STEPHANIE |
SCHAERER | ALAN | C
SCHENCK | LINDA | E
SCHENCK | ROBERT | G
SCHILLEREFF | H | SCOTT
SCHLOSSER | CHRISTOPHER | R
SCHMELING | MIRIAM |
SCHMID | EDITH | M
SCHMIDT | ANNETTE |
SCHMIDT | COLIN |
SCHNAPPER | NOACH | L
SCHNEIBDER | TIM | C
SCHNEIDER | MADELEINE |
SCHNEIDER | MAXIMILIAN | K
SCHULTZ | VICTORIA | T
SCHWALBACH | SABASTIAN |
SCOTT | KIMBERLY | A
SEGGERMAN | NATALIA | CARRIE ATHA
SETTLES | MARCUS | R
SEVENSTER | MERLIJN |
SHAFFER | MILO | S
SHALAM | EMANUEL | B
SHARPE | WILLIAM |
SHAW | DAVID |
SHELLITO | MICHAEL | J
SIEGELE | JESSICA | M
SILBERMAN | MICHAEL | BOLEK
SIMAN-TOV | EITAN |
SIMONNARD | ALEXIA |
SINCLAIR-LAPPI | KRISTA | STEPHANIE
SING MING | HUTT |
SIROTNIK | GARETH | S
SITTIG | DALE |
SMITH | CHRISTOPHER |
SMITH | JENNIFER | M
SMITH | JULIA | YVONNE ANGELA CAMPBELL
SMITH | LEON | T
SMITH | LISA | M
SMITH | STEFAN | A
SMITH | WILLIAM | S
SMITHERS | AMELIA | O
SOCASH | RYAN | A
SORENSEN | JOHN | A
SPARKS | DERRICK |
SPIES | ANNA |
SPINELLI | ULRICA |
SPOTORNO | ALESSANDRO |
SPRAY | CHRISTOPHER | J
STANFORD | ROYDEN | J
STEELE | GREGORY | R
STEGMANN | CHRISTIAN |
STEIN | DAVID | H
STEINBACK | MICHAEL |
STEINBERG | FREDRIC | M
STEPAK | RAQUEL |
STEWART | LILIAN | T
STOTT | SARAH |
SUDMANT | SANDRA | R
SULLIVAN | JUNE | E
SUN | CHUANMING |
SUTTER | BRENT |
SWIATEK | CLAUDIA | L
SWIATEK | MICHELLE | L
SWIFT | BJORN | P
SYLVAN | LILO | D
SZABO | STEVEN | M
TAKASHIMA | HIDETOSHI |
TAKASHIMA | KAZUMI |
TANNER | BARBARA | S
TANNER | STEPHAN | C
TAUZER | SASHA | TOMCZUK
TAYLOR-HELL | CATHERINE |
TAYSI | A | Y
TEHEE | RYAN | PATRICK
TEJADA | ANALEE |
TEN-WOLDE | BEVERLY | A
TERRYN | NICHOLAS | A
TESSIER | ALEXANDRE | JOSEPH
THEALL | MARGARET |
THION | STEPHANE | F
THOMAS | ALLISON |
THOMPSON | JOHN |
THOMPSON | KATHERINE | A
THOMPSON | WILLIAM | J
THOMSON | ALLAN |
THOMSON | IAN | A.
TIMMERMANS | MARJA | C
TIMMS | RYAN | JOHN
TIN | LANCELOT |
TO | CHING | WAI
TOKURA | NAOMI |
TORRANCE | IAIN | R
TOSI | PAOLA | MARIA
TRACY JR | GALEN | L
TRAMBLE | RASHUNDA |
TRGOVAC | KATHERINE |
TRUIJENS | EELKO |
TURNER | ALICIA |
TURNER | TARA | J
UNGER | KAZUYO |
VALEZ | MICHEAL | S
VAN DEN BOS | RONALD | L
VAN DEN BRANDE | CARL | A
VAN DER HULST | TJEERD |
VAN DER LINDEN | WILLEM | J
VAN DOMSELAAR | BASTIAAN | M
VAN KEULEN | CATHARINA | C
VANDEPUTTE | MARC | C
VANTHIELEN | BARBARA | LILY
VARTIAN | MICHELE |
VENTURINI | MONICA |
VERVER | MATTHYS | LEO
VIERLING | VIRGINIA | W
VINCENT | JORDAN | B
VINCENT | MARIE-CHRISTIN |
VINSON | DONNA |
VLIEG | HEDWICH | C
VLIET | RAVARA | VAN
VON DRASEK | SARAH |
VON SCHULTHESS RECHBE | CRAIG | P
VONBARLOEWEN | DANIEL | W
VOUTE | SEBASTIANN | J
WAGNER | KELLY | A
WALKER | KATHERINE | L
WALKER | VANESSA | EILEEN
WALLNER | LYDIA |
WANG | JEFFREY |
WARRIMER | INEZ | L
WASKOENIG | JANINE |
WATCHERS | EUGENIA |
WAXER | MICHELLE |
WAXER | SUSAN |
WEBB | CECIL | P
WEBER | CAROLYN |
WEBER | JASMINE | N
WEEKS | GRAHAM | N
WEIBEL | LYNN |
WELLER | SHARON | R
WELLINGS | SHAUNA |
WELLMAN | DIANE | E
WELLS | OLIVIA | V
WENTZEL | RICHARD |
WEST | RACHEL | SARA
WHEATLEY | DR LOUISE | RUSSELL
WHITEHEAD | CYNTHIA |
WHITMONT | THEODOE | P
WHITTINGTON | MEGAN |
WICHMANN | FABIENNE | C
WIENS | ORAN |
WILCOX | RICHARD | J
WILHELM | CHRISTIAN |
WILLARD | GILLIAN |
WILLCOX | EMMA | GRACE
WILLCOX | JAMES | CHRISTOPHER
WILLIAMS | BRUCE | A
WILLIAMS | GRACE |
WILLIAMS | LINNEA | MARIE
WILLIAMS | MICHAEL |
WILLIAMS | ZOE | H T.
WILMOT | E GAYLE |
WILMOTT | PATRICIA | M
WILSON | CHARLES | C
WILSON | DEBORAH |
WIMMERS | SARA | E
WINCKLER | MICHELE |
WINSTON | JERONE | A
WIRTZ | KATHRYN |
WIRZ | PATRICK | THOMAS
WITZEL | FRANK | O
WOOD | THOMAS | B
WOOD | TIM | J
WOODMAN HOOPER | MARY | S
WRIGHT | JOHN | A
WRIGHT | MARY-HELEN |
WRIGHT | SUSAN | L
WU | LIANG |
XIE | LEXING |
YAMADA | KYOKO |
YANG | MICHAEL | C
YANG | SUMIN |
YEN | MICHAEL |
YOKOMORI | MAMORU |
YOOM | ALEXANDER |
YOOM | DANIEL |
YOON | JACLYN |
YOT | PATRICK |
YOUNG | WINNIE |
YOUNGER | STUART | G
ZALAPSKI | ZEN |
ZEISE | KRISTEN | M
ZEVEN | CAROL | L
ZGUSTA | RICHARD |
ZHANG | NING |
ZHAO | HUI |
ZIENKIEWICZ | ANDREW | P
ZUBER | JENNIFER | A
ZUCK | AUDREY | A

Dated: November 8, 2021.
Alicia Lambreton Calhoun,
Acting Manager Team 1940, CSDC—Compliance Support, Development & Communications, LB&I:WEIIC:IIC:T4.

[FR Doc. 2021-24726 Filed 11-12-21; 8:45 am]

BILLING CODE 4830-01-P